DEPARTMENT OF TRANSPORTATION

Research and Special Programs Administration

[Docket: RSPA-98-4957]

Request for Public Comments and Office of Management and Budget (OMB) Approval of an Existing Information Collection

AGENCY: Research and Special Programs Administration, Department of Transportation.

ACTION: Notice.

SUMMARY: This notice seeks comments from the public regarding the need for RSPA to collect paperwork information from state agencies that maintain programs to regulate pipelines. The purpose of the paperwork requested from the state agencies is to ensure that these states are properly monitoring the operations of pipeline operators in their states, and to determine Federal grant amounts for these states. This notice is published (pursuant to the Paperwork Reduction Act of 1995) to measure the need for the paperwork collection from these state agencies, ways to minimize the burden on states that must respond, ways to enhance the quality of information collected, and to verify the accuracy of the RSPA's estimate of the burden (measured in work hours) on states. The RSPA published a notice on October 12, 2001 requesting public comment. No comments were received. This notice also seeks approval from the Office of Management and Budget to renew the existing approval of this paperwork collection.

DATES: Comments on this notice must be received by April 4, 2002 to be assured of consideration.

ADDRESSES: Comments should identify the docket number of this notice, RSPA-98-4957. Comments can be mailed directly to Office of Regulatory Affairs, Office of Management and Budget, 726 Jackson Place, NW., Washington, DC 20503, ATTN: Desk Officer for DOT.

Interested persons are invited to send comments regarding the burden estimated or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Marvin Fell, Office of Pipeline Safety, RSPA, DOT, 400 Seventh Street, SW., Washington, DC 20590 (202) 366-6205 or by e-mail at marvin.fell@rspa.dot.gov.

SUPPLEMENTARY INFORMATION: Chapter 601, Title 49, United States Code (49 U.S.C.) authorizes DOT to regulate pipeline transportation. While DOT is primarily responsible for developing, issuing, and enforcing minimum pipeline safety regulations, Chapter 601, 49 U.S.C., provides for state assumption of all or part of the regulatory and enforcement responsibility for intrastate pipelines.

Section 60105 of 49 U.S.C. set forth specific requirements a state must meet to qualify for certification status to assume regulatory and enforcement responsibility for intrastate pipelines, i.e., state adoption of minimum federal safety standards, state inspection of pipeline operators to determine compliance with the standards, and state provision for enforcement sanctions substantially the same as those authorized by Chapter 601, 49 U.S.C. A participating state must annually submit a section 60105(a) Gas Pipeline Safety Program Certification and/or a Hazardous Liquid Pipeline Safety Program Certification to the Office of Pipeline Safety (OPS) signifying compliance with the terms of the certification.

As used in this notice, ‘information collection’ and ‘paperwork collection’ are synonymous, and include all work related to preparing and disseminating information related to this recordkeeping requirement including completing paperwork, gathering information and conducting telephone calls.

Type of Information Collection Request: Renewal of Existing Collection.

Title of Information Collection: Certification and Agreement Forms for the Gas and Hazardous Liquid Pipeline Safety Program.

OMB Approval Number: 2137-0584.

Frequency: Annually.

Use: This collection is used by RSPA to ensure that State agencies attesting they have regulatory jurisdiction over pipeline safety have adopted and are complying with minimum Federal safety standards. This information is used to calculate grants to States.

Estimated Number of Respondents: 61.

Respondents: State Agencies.

Total Annual Hours Requested: 3,649.

Issued in Washington, DC, on February 20, 2002.
Stacey L. Gerard,
Associate Administrator for Pipeline Safety.

[FR Doc. 02-4481 Filed 3-4-02; 8:45 am]

BILLING CODE 4910-60-P